DEPARTMENT OF ENERGY

Federal Energy Regulatory Commission

[Project No. 15339-000]

Gravity Storage LLC; Notice of Preliminary Permit Application Accepted for Filing and Soliciting Comments, Motions To Intervene, and Competing Applications

On January 11, 2024, Gravity Storage, LLC (Gravity Storage), filed an application for a preliminary permit, pursuant to section 4(f) of the Federal Power Act (FPA), proposing to study the feasibility of the Escondido Canyon Pumped Storage Project.¹ The proposed project is a 2,000-megawatt (MW) closed-loop pumped storage project would be located 13 miles south of Alamogordo in Otero County, New Mexico. The sole purpose of a preliminary permit, if issued, is to grant the permit holder priority to file a license application during the permit term. A preliminary permit does not authorize the permit holder to perform any land-disturbing activities or otherwise enter upon lands or waters owned by others without the owners' express permission.

¹ Gravity Storage filed an amendment to the application on April 19, 2024, in which it changed the requested term of the permit from 36 to 48 months.

The proposed project would consist of the following new facilities: (1) a 15,340-foot-long, 75-foot-high rolled concrete dam that would impound a 176-acre upper reservoir with a storage capacity of 11,300 acre-feet at a water surface elevation of 7,560 feet above mean sea level (msl); (2) a 3,793-foot-long, 80-foot-high rockfill/concrete dam that would impound a 147-acre lower reservoir with a storage capacity of 11,300 acre-feet at a water surface elevation of 4,300 feet msl; (3) a 6,800-foot-long, 42-foot-diameter concrete penstock from the upper reservoir to eight 330-foot-long, 15-foot-diameter turbine penstocks; (4) a 1,600-foot-long, 150-foot-wide, 60-foot-high underground concrete powerhouse containing eight 250-MW pump-turbine generators; (5) a 2,750-foot-long, 42-foot-diameter concrete tailrace; (6) a 1-mile-long steel well water supply pipeline connecting to existing wells for initial fill water; (7) an 11.7-mile-long, 345-kilovolt transmission line; and (8) appurtenant facilities. Additionally, Gravity Storage proposes to install Solar Power plants on the surface of the upper and lower reservoirs to minimize evaporation due to the arid desert climate. The proposed project would have an estimated annual generation of 8,000 gigawatt-hours.

Applicant Contact: Mr. David Drips, Manager, Gravity Storage LLC, 10958 E Cordova Street, Gold Canyon, AZ 85118; email: dedrips@msn.com; phone: (385) 227-7272.

FERC Contact: Jane Dalgliesh; email: jane.dalgiesh@ferc.gov; phone: (503) 552-2718.

Deadline for filing comments, motions to intervene, competing applications (without notices of intent), or notices of intent to file competing applications: 60 days from the issuance of this notice. Competing applications and notices of intent must meet the requirements of 18 CFR 4.36.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. The first page of any filing should include docket number P-15339-000.

More information about this project, including a copy of the application, can be viewed or printed on the “eLibrary” link of Commission's website at https://elibrary.ferc.gov/eLibrary/search. Enter the docket number (P-15339) in the docket number field to access the document. For assistance, contact FERC Online Support.

Dated: June 7, 2024.
Debbie-Anne A. Reese,
Acting Secretary.

[FR Doc. 2024-12983 Filed 6-12-24; 8:45 am]

BILLING CODE 6717-01-P